DEPARTMENT OF JUSTICE

Office of Justice Programs

[OJP (OJP) Docket No. 1598]

Second Hearing of the Attorney General's National Task Force on Children Exposed to Violence

AGENCY: Office of Justice Programs (OJP), Justice.

ACTION: Notice of hearing.

SUMMARY: This is an announcement of the second hearing of the Attorney General's National Task Force on Children Exposed to Violence (the “Task Force”). The Task Force is chartered to provide OJP, a component of the Department of Justice, with valuable advice in the areas of children exposed to violence for the purpose of addressing the epidemic levels of exposure to violence faced by our nation's children. Based on the testimony at four public hearings; comprehensive research; and extensive input from experts, advocates, and impacted families and communities nationwide, the Task Force will issue a final report to the Attorney General presenting its findings and comprehensive policy recommendations in the fall of 2012.

DATES: The hearing will take place on Tuesday, January 31, from 8:30 a.m. to 5:30 p.m., MST; and Wednesday, February 1, 2012, from 8:30 a.m. to 2 p.m., MST.

ADDRESSES: The portion of the hearing occurring on Tuesday, January 31, 2012, will take place at One Civic Center Plaza, Albuquerque, New Mexico (87102). The portion of the hearing occurring on Wednesday, February 1, 2012, will take place at the United States Attorney's Office for the District of New Mexico, 201 3rd St. NW., Albuquerque, New Mexico (87102).

FOR FURTHER INFORMATION CONTACT: Will Bronson, Designated Federal Officer (DFO) and Deputy Associate Administrator, Child Protection Division, Office of Juvenile Justice & Delinquency Prevention, Office of Justice Programs, 810 7th Street NW., Washington, DC 20531. Phone: (202) 305-2427 [Note: this is not a toll-free number]; email: willie.bronson@usdoj.gov.

SUPPLEMENTARY INFORMATION: This hearing is being convened to brief the Task Force members about the issue of children's exposure to violence. The final agenda is subject to adjustment, but it is anticipated that on January 31, there will be a morning and afternoon session, with a break for lunch. The morning session will likely include welcoming remarks and introductions, and panel presentations from invited guests on the impact of children's exposure to violence. The afternoon session will likely include presentations from experts invited to brief the Task Force on describing children's exposure to violence in rural and American Indian/Alaska Native communities and several existing programs that attempt to address this epidemic. On February 1, there will be a morning session that will include a review of material presented during the previous day, presentation from the subcommittee that participated in a community listening session, and a discussion on the structure of the final report.

This meeting is open to the public. Members of the public who wish to attend this meeting must provide photo identification upon entering the facility. Those wishing to provide public testimony during the hearings should register with Will Bronson at defendingchildhoodtaskforce@nccdcrc.org at least seven (7) days in advance of the meeting. Registrations will be accepted on a space available basis. Testimony will not be allowed without prior registration. An hour for public testimony is scheduled from 4 p.m. to 5 p.m. MST. Public testimony must be provided in person and will be limited to three (3) minutes per witness. Please bring photo identification and allow extra time prior to the meeting. Persons interested in providing written testimony to the Task Force should submit their written comments to the DFO at least seven (7) days prior to the hearing at the address listed.

Anyone requiring special accommodations should notify Mr. Bronson at least seven (7) days in advance of the meeting.

Will Bronson
Deputy Associate Administrator, Child Protection Division and National Task Force on Children Exposed to Violence, Designated Federal Official, Office of Juvenile Justice and Delinquency Prevention, Office of Justice Programs, U.S. Department of Justice.

[FR Doc. 2012-3007 Filed 2-8-12; 8:45 am]

BILLING CODE 4410-18-P